OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Monday, March 19, 2007, from 9 a.m. to 4:30 p.m. The meeting will be closed to the public from 9 a.m. to 2 p.m. and opened to the public from 3 p.m. to 4:30 p.m.

DATES: The meeting is scheduled for March 19, 2007, unless otherwise notified.

ADDRESSES: The meeting will be held at the Ronald Reagan International Trade Center, Trade Information Center, Training Room A.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• Updates on Trade Promotion Coordinating Committee Export Promotion Programs, particularly trade financing.

• Government Procurement through International Development Banks.

• Overview of the Recent U.S. Commercial Service Export Promotion Programs, particularly those that assist small businesses in areas of concern expressed by ITAC-11: Foreign government procurement opportunities and trade finance.

Tiffany M. Moore,
Assistant U.S. Trade Representative for Intergovernmental Affairs and Public Liaison.

[FR Doc. E7-3711 Filed 3-1-07; 8:45 am]

BILLING CODE 3190-W7-P